ENVIRONMENTAL PROTECTION AGENCY

[FRL-8933-6; Docket ID No. EPA-HQ-ORD-2009-0495]

Nanomaterial Case Studies: Nanoscale Titanium Dioxide in Water Treatment and Topical Sunscreen

AGENCY: Environmental Protection Agency (EPA).

ACTION: Notice of Public Comment Period.

SUMMARY: EPA is announcing a 45-day public comment period for the draft document titled, “Nanomaterial Case Studies: Nanoscale Titanium Dioxide in Water Treatment and Topical Sunscreen” (EPA/600/R-09/057). The document was prepared by the National Center for Environmental Assessment within EPA's Office of Research and Development. The case studies focus on two different applications of nanoscale titanium dioxide, water treatment and topical sunscreen. The document is intended to serve as a foundation for creating a long-term research strategy to provide the information needed for comprehensive environmental assessments of selected nanomaterials. It does not attempt to draw conclusions regarding potential environmental risks of nanoscale titanium dioxide, but only to identify what is known and what needs to be known to support future assessment efforts.

EPA is releasing this draft document solely for the purpose of pre-dissemination peer review under applicable information quality guidelines. This document has not been formally disseminated by EPA. It does not represent and should not be construed to represent any Agency policy or determination. When finalizing the draft document, EPA intends to consider any public comments that EPA receives in accordance with this notice.

DATES: The 45-day public comment period begins July 31, 2009, and ends September 14, 2009. Technical comments should be in writing and must be received by EPA by September 14, 2009.

ADDRESSES: The draft “Nanomaterial Case Studies: Nanoscale Titanium Dioxide in Water Treatment and Topical Sunscreen” is available primarily via the Internet on the National Center for Environmental Assessment's home page under the Recent Additions and the Data and Publications menus at http://www.epa.gov/ncea. A limited number of paper copies are available from Deborah Wales, NCEA-RTP, Research Triangle Park, NC 27711; phone: (919) 541-4731; facsimile: (919) 541-5078. If you are requesting a paper copy, please provide your name, your mailing address, and the document title, “Nanomaterial Case Studies: Nanoscale Titanium Dioxide in Water Treatment and Topical Sunscreen.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: (202) 566-1752; facsimile: (202) 566-1753; or e-mail: ORD.Docket@epa.gov.

For technical information, contact Dr. J. Michael Davis, NCEA; telephone: (919) 541-4162; facsimile: (919) 685-3331; or e-mail: Davis.Jmichael@epa.gov.

SUPPLEMENTARY INFORMATION:

I. Information About the Project/Document

Engineered nanoscale materials (nanomaterials) are conventionally defined as having at least one dimension between 1 and 100 nanometers (nm) and unique properties that arise from their small size. Like all technological developments, nanomaterials offer the potential for both benefits and risks. The assessment of such risks and benefits requires information, but given the nascent state of nanotechnology, much remains to be learned about the characteristics and effects of nanomaterials before such assessments can be completed. The draft document, “Nanomaterial Case Studies: Nanoscale Titanium Dioxide in Water Treatment and Topical Sunscreen,” is a starting point to identify what is known and, more importantly, what needs to be known about selected nanomaterial applications—in this case, for nanoscale titanium dioxide (nano-TiO2)—to assess their potential ecological and health implications. The complex properties of various nanomaterials make evaluating them in the abstract or with generalizations difficult if not impossible. Thus, this document focuses on two specific uses of nano-TiO2, as a drinking water treatment and as topical sunscreen. These “case studies” do not represent completed or even preliminary assessments; rather, they present the structure for identifying and prioritizing research needed to support future assessments. The case studies follow the comprehensive environmental assessment (CEA) approach, which combines a product life-cycle framework with the risk assessment paradigm. In essence, risk assessment relates exposure and effects information for a given substance or stressor, and CEA expands on this paradigm by including life-cycle stages and considering both indirect and direct ramifications of a substance or stressor.

II. How To Submit Technical Comments to the Docket at http://www.regulations.gov

Submit your comments, identified by Docket ID No. EPA-HQ-ORD 2009-0495, by one of the following methods:

• http://www.regulations.gov: Follow the on-line instructions for submitting comments.

• E-mail: ORD.Docket@epa.gov

• Fax: (202) 566-1753

• Mail: Office of Environmental Information (OEI) Docket (Mail Code: 2822T), U.S. Environmental Protection Agency, 1200 Pennsylvania Ave., NW., Washington, DC 20460. The phone number is (202) 566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is (202) 566-1744. Such deliveries are only accepted during the docket's normal hours of operation, and special arrangements should be made for deliveries of boxed information. If you provide comments by mail or hand delivery, please submit three copies of the comments. For attachments, provide an index, number pages consecutively with the comments, and submit an unbound original and three copies.

Instructions: Direct your comments to Docket ID No. EPA-HQ-ORD-2009-0495. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: July 8, 2009.
Rebecca Clark,
Acting Director, National Center for Environmental Assessment.

[FR Doc. E9-18386 Filed 7-30-09; 8:45 am]

BILLING CODE 6560-50-P